DEPARTMENT OF STATE

[Public Notice: 7725]

Culturally Significant Objects Imported for Exhibition Determinations: “Beauty and Belief: Crossing Bridges With the Arts of Islamic Culture”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000 (and, as appropriate, Delegation of Authority No. 257 of April 15, 2003), I hereby determine that the objects to be included in the exhibition “Beauty and Belief: Crossing Bridges with the Arts of Islamic Culture,” imported from abroad for temporary exhibition within the United States, are of cultural significance. The objects are imported pursuant to loan agreements with the foreign owners or custodians. I also determine that the exhibition or display of the exhibit objects at the Brigham Young University Museum of Art, Provo, Utah, from on or about February 24, 2012, until on or about September 29, 2012, the Indianapolis Museum of Art, Indianapolis, Indiana, from on or about November 2, 2012, until on or about January 13, 2013, the Newark Museum, Newark, New Jersey, from on or about February 13, 2013, until on or about May 19, 2013, the Portland Art Museum, Portland, Oregon, from on or about June 15, 2013, until on or about September 8, 2013, and at possible additional exhibitions or venues yet to be determined, is in the national interest. I have ordered that Public Notice of these Determinations be published in the Federal Register.

FOR FURTHER INFORMATION CONTACT: For further information, including a list of the exhibit objects, contact Paul W. Manning, Attorney-Adviser, Office of the Legal Adviser, U.S. Department of State (telephone: (202) 632-6469). The mailing address is U.S. Department of State, SA-5, L/PD, Fifth Floor (Suite 5H03), Washington, DC 20522-0505.

Dated: December 6, 2011.
J. Adam Ereli,
Principal Deputy Assistant Secretary, Bureau of Educational and Cultural Affairs, Department of State.

[FR Doc. 2011-31984 Filed 12-12-11; 8:45 am]

BILLING CODE 4710-05-P